POSTAL REGULATORY COMMISSION

[Docket Nos. MC2011-3 and CP2011-4; Order No. 556]

New Postal Product

AGENCY: Postal Regulatory Commission.

ACTION: Notice.

SUMMARY: The Commission is noticing a recently-filed Postal Service filing to add Priority Mail Contract 29 to the competitive product list. The Postal Service has also filed a related contract. This notice addresses procedural steps associated with the filing.

ADDRESSES: Submit comments electronically via the Commission's Filing Online system at http://www.prc.gov. Commenters who cannot submit their views electronically should contact the person identified in the FOR FURTHER INFORMATION CONTACT section by telephone for advice on alternatives to electronic filing.

FOR FURTHER INFORMATION CONTACT: Stephen L. Sharfman, General Counsel, stephen.sharfman@prc.gov or 202-789-6820.

SUPPLEMENTARY INFORMATION:

Table of Contents

I. Introduction

II. Notice of Filing

III. Ordering Paragraphs

I. Introduction

Pursuant to 39 U.S.C. 3642 and 39 CFR 3020.30 et seq., the Postal Service filed a formal request and associated supporting information to add Priority Mail Contract 29 to the competitive product list.¹ The Postal Service asserts that Priority Mail Contract 29 is a competitive product “not of general applicability” within the meaning of 39 U.S.C. 3632(b)(3). Id. at 1. The Postal Service states that prices and classification underlying this contract are supported by Governors' Decision No. 09-6 in Docket No. MC2009-25. Id. The Request has been assigned Docket No. MC2011-3.

¹ Request of the United States Postal Service to Add Priority Mail Contract 29 to Competitive Product List and Notice of Filing (Under Seal) of Contract and Supporting Data, October 4, 2010 (Request).

The Postal Service contemporaneously filed a contract related to the proposed new product pursuant to 39 U.S.C. 3632(b)(3) and 39 CFR 3015.5. The contract has been assigned Docket No. CP2011-4.

Request. In support of its Request, the Postal Service filed six attachments as follows:

1. Attachment A—a redacted copy of Governors' Decision No. 09-6, originally filed in Docket No. MC2009-25, authorizing certain Priority Mail contracts;

2. Attachment B—a redacted copy of the contract;

3. Attachment C—a proposed change in the Mail Classification Schedule competitive product list;

4. Attachment D—a Statement of Supporting Justification as required by 39 CFR 3020.32;

5. Attachment E—a certification of compliance with 39 U.S.C. 3633(a); and

6. Attachment F—an application for non-public treatment of materials to maintain redacted portions of the contract and supporting documents under seal.

In the Statement of Supporting Justification, Brian G. Denneny, Acting Manager, Sales and Communications, Expedited Shipping, asserts that the service to be provided under the contract will cover its attributable costs, make a positive contribution to institutional costs, and increase contribution toward the requisite 5.5 percent of the Postal Service's total institutional costs. Id., Attachment D. Thus, Mr. Denneny contends there will be no issue of subsidization of competitive products by market dominant products as a result of this contract. Id.

Related contract. A redacted version of the specific Priority Mail Contract 29 is included with the Request. The contract will become effective on the day that the Commission provides all necessary regulatory approvals. It is terminable upon 30 days' notice by a party, but could continue for 3 years. The Postal Service represents that the contract is consistent with 39 U.S.C. 3633(a). See id., Attachment D.

The Postal Service filed much of the supporting materials, including the specific Priority Mail Contract 29, under seal. It maintains that the contract and related financial information, including the customer's name and the accompanying analyses that provide prices, terms, conditions, cost data, and financial projections should remain under seal. See Attachment F. It also requests that the Commission order that the duration of such treatment of all customer-identifying information be extended indefinitely, instead of ending after 10 years. Id. at 7.

II. Notice of Filings

The Commission establishes Docket Nos. MC2011-3 and CP2011-4 for consideration of the Request pertaining to the proposed Priority Mail Contract 29 product and the related contract, respectively.

Interested persons may submit comments on whether the Postal Service's filings in the captioned dockets are consistent with the policies of 39 U.S.C. 3632, 3633, or 3642 and 39 CFR part 3015 and 39 CFR 3020, subpart B. Comments are due no later than October 13, 2010.² The public portions of these filings can be accessed via the Commission's Web site (http://www.prc.gov).

² For information on filing comments after the deadline, please contact Mr. Sharfman.

The Commission appoints Paul L. Harrington to serve as Public Representative in these dockets.

III. Ordering Paragraphs

It is Ordered:

1. The Commission establishes Docket Nos. MC2011-3 and CP2011-4 for consideration of the matters raised in each docket.

2. Pursuant to 39 U.S.C. 505, Paul L. Harrington is appointed to serve as officer of the Commission (Public Representative) to represent the interests of the general public in these proceedings.

3. Comments by interested persons in these proceedings are due no later than October 13, 2010.

4. The Secretary shall arrange for publication of this order in the Federal Register.

By the Commission.
Shoshana M. Grove,
Secretary.

[FR Doc. 2010-26787 Filed 10-22-10; 8:45 am]

BILLING CODE 7710-FW-P